Title 3—

The President

Proclamation 8213 of December 20, 2007

To Implement an Amendment to the Dominican Republic-Central America-United States Free Trade Agreement

By the President of the United States of America

A Proclamation

1. On August 5, 2004, the United States entered into the Dominican Republic-Central America-United States Free Trade Agreement (the “Agreement”) with Costa Rica, the Dominican Republic, El Salvador, Guatemala, Honduras, and Nicaragua (the “Agreement countries”). The Congress approved the Agreement in section 101(a) of the Dominican Republic-Central America-United States Free Trade Agreement Implementation Act (the “CAFTA-DR Act”) (19 U.S.C. 4011).

2. The Parties to the Agreement entered into an amendment to the Agreement on July 27, August 6, and August 14, 2007 (the “Amendment”). The terms of the Amendment are contained in letters of understanding between the United States and the Agreement countries described in sections 1634(a)(2) and 1634(b)(2) of the Pension Protection Act of 2006 (Public Law 109-280, 120 Stat. 780).

3. Section 1634 of the Pension Protection Act authorizes the President to proclaim modifications to the Harmonized Tariff Schedule of the United States (HTS) as necessary to carry out the understandings described therein subject, in the case of certain provisions of the Amendment, to the consultation and layover requirements in section 104 of the CAFTA-DR Act (19 U.S.C. 4014).

4. Section 203(o) of the CAFTA-DR Act (19 U.S.C. 4033) authorizes the President to proclaim, as part of the HTS, the provisions set out in Annex 4.1 of the Agreement.

5. Executive Order 11651 of March 3, 1972, as amended, established the Committee for the Implementation of Textile Agreements (CITA), consisting of representatives of the Departments of State, the Treasury, Commerce, and Labor, and the Office of the United States Trade Representative, with the representative of the Department of Commerce as Chairman, to supervise the implementation of textile trade agreements. Consistent with 3 U.S.C. 301, when carrying out functions vested in the President by statute and assigned by the President to CITA, the officials collectively exercising those functions are all to be officers required to be appointed by the President with the advice and consent of the Senate.

6. Section 604 of the Trade Act of 1974, as amended (the “1974 Act”) (19 U.S.C. 2483), authorizes the President to embody in the HTS the substance of relevant provisions of that Act, or other acts affecting import treatment, and of actions taken thereunder.

NOW, THEREFORE, I, GEORGE W. BUSH, President of the United States of America, acting under the authority vested in me by the Constitution and the laws of the United States of America, including but not limited to section 203 of the CAFTA-DR Act, section 1634 of the Pension Protection Act, section 301 of title 3, United States Code, and section 604 of the 1974 Act, do proclaim that:

(1) In order to provide generally for the modifications in the rules for determining whether goods imported into the customs territory of the United States are eligible for preferential tariff treatment under the Agreement, to provide preferential tariff treatment for certain other goods under the Agreement, and to make technical and conforming changes in the general notes to the HTS, the HTS is modified as set forth in:

(a) Sections A, B, and C of the Annex to this proclamation; and

(b) Section D of that Annex.

(2) The modifications to the HTS made by paragraph (1)(a) of this proclamation shall enter into effect on the date, as announced by the United States Trade Representative in the Federal Register, that the Amendment enters into force and shall be effective with respect to goods entered, or withdrawn from warehouse for consumption, on or after that date.

(3) The modifications to the HTS made by paragraph (1)(b) of this proclamation shall enter into effect on the date, as announced by the United States Trade Representative in the Federal Register, that the Amendment has entered into force and the conditions set forth in paragraph (a), paragraph (b), or both, of footnote 1 to Appendix 4.1-B of the Agreement have been fulfilled, and shall be effective with respect to goods entered, or withdrawn from warehouse for consumption, on or after that date.

(4) The CITA is authorized to exercise my authority under section 203(o) of the CAFTA-DR Act to implement Appendix 4.1-B of the Agreement by determining whether and, if so, by what amount, to increase in accordance with paragraph 3 or footnote 2 of that Appendix the quantitative limits in the provisions of the HTS set out in section D of the Annex to this proclamation.

(5)The United States Trade Representative shall modify U.S. note 21 to subchapter XXII of chapter 98 of the HTS in a notice published in the Federal Register to reflect determinations pursuant to paragraph (4) of this proclamation by the CITA.

(6) Any provisions of previous proclamations and Executive Orders that are inconsistent with the actions taken in this proclamation are superseded to the extent of such inconsistency.

IN WITNESS WHEREOF, I have hereunto set my hand this twentieth day of December, in the year of our Lord two thousand seven, and of the Independence of the United States of America the two hundred and thirty-second.

Billing code 3195-01-P

[FR Doc. 07-6246 Filed 12-26-07; 9:06 am]